DEPARTMENT OF TRANSPORTATION

Federal Aviation Administration

Approval of Noise Compatibility Program for Buckeye Municipal Airport, Town of Buckeye, AZ

AGENCY: Federal Aviation Administration, DOT.

ACTION: Notice.

SUMMARY: The Federal Aviation Administration (FAA) announces its findings on the noise compatibility program submitted by the Town of Buckeye under the provisions of 49 U.S.C. 47501 et seq. (formerly the Aviation Safety and Noise Abatement Act, hereinafter referred to as “the Act”) and 14 Code of Federal Regulations (CFR) Part 150 (hereinafter referred to as “Part 150”). On September 22, 2008, the FAA determined that the noise exposure maps submitted by the Town of Buckeye under Part 150 were in compliance with applicable requirements. On May 13, 2010, the FAA approved the Buckeye Municipal Airport noise compatibility program. All of the recommendations of the program were approved.

DATES: Effective Date: The effective date of the FAA's approval of the Noise Compatibility Program for Buckeye Municipal Airport is May 13, 2010.

FOR FURTHER INFORMATION CONTACT: Ruben Cabalbag, Acting Manager, Los Angeles Airports District Office, Room 3000, 15000 Aviation Boulevard, Lawndale, CA 90261, (310) 725-3621. Documents reflecting this FAA action may be reviewed at this same location.

SUPPLEMENTARY INFORMATION: This notice announces that the FAA has given its overall approval to the Noise Compatibility Program for Buckeye Municipal Airport, effective May 13, 2010.

Under section 47504 of the Act, an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Part 150 is a local program, not a Federal program. The FAA does not substitute its judgment for that of the airport proprietor with respect to which measures should be recommended for action. The FAA's approval or disapproval of Part 150 program recommendations is measured according to the standards expressed in Part 150 and the Act and is limited to the following determinations:

a. The Noise Compatibility Program was developed in accordance with the provisions and procedures of Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in Part 150, section 150.5. Approval is not a determination concerning the acceptability of land uses under Federal, State, or local law. Approval does not by itself constitute an FAA implementing action. A request for Federal action or approval to implement specific noise compatibility measures may be required. Prior to an FAA decision on a request to implement the action, an environmental review of the proposed action may be required. Approval does not constitute a commitment by the FAA to financially assist in the implementation of the program nor a determination that all measures covered by the program are eligible for grant-in-aid funding from the FAA under applicable law contained in Title 49 U.S.C. Where Federal funding is sought, requests for project grants must be submitted to the FAA Los Angeles Airports District Office in Hawthorne, California.

The Town of Buckeye submitted to the FAA the noise exposure maps, descriptions, and other documentation produced during the noise compatibility study. The Buckeye Municipal Airport noise exposure maps were determined by the FAA to be in compliance with applicable requirements on September 22, 2008. Notice of this determination was published in the Federal Register on February 25, 2009, Volume 74, Number 36, Page 8612.

The Buckeye Municipal Airport study contains a proposed noise compatibility program comprised of actions designed for phased implementation by airport management and adjacent jurisdictions. It was requested that the FAA evaluate and approve this material as a Noise Compatibility Program as described in section 47504 of the Act. The FAA began its review of the program on December 4, 2009, and was required by a provision of the Act to approve or disapprove the program within 180 days (other than the use of new or modified flight procedures for noise control). Failure to approve or disapprove such program within the 180-day period shall be deemed to be an approval of such program.

The submitted program contained five proposed actions for noise abatement, noise mitigation, land use planning and program management on and off the airport. The FAA completed its review and determined that the procedural and substantive requirements of the Act and Part 150 have been satisfied. The overall program was approved by the FAA, effective May 13, 2010.

Outright approval was granted for five of specific program measures. The approved measures include such items as: Developing a pilot and community outreach program; Developing project review guidelines for development of proposals within the Public Airport Disclosure Area: Town of Buckeye to discourage re-zoning of parcels near the airport that would allow more than one dwelling unit per acre; Update noise exposure maps and noise compatibility programs; Oversee implementation of the Part 150 Noise Compatibility Program.

These determinations are set forth in detail in a Record of Approval signed by the Western-Pacific Region Airports Division Manager on May 13, 2010. The Record of Approval, as well as other evaluation materials and the documents comprising the submittal, are available for review at the FAA office listed above and at the administrative offices of the Town of Buckeye. The Record of Approval also will be available online at: http://www.faa.gov/airports/environmental/airport_noise/part_150/states/.

Issued in Hawthorne, California on June 8, 2010.
Debbie Roth,
Acting Manager, Airports Division, Western-Pacific Region, AWP-600.

[FR Doc. 2010-14971 Filed 6-18-10; 8:45 am]

BILLING CODE 4910-13-P